DEPARTMENT OF TRANSPORTATION

Pipeline and Hazardous Materials Safety Administration

Office of Hazardous Materials Safety; Special Permit Applications

AGENCY: Pipeline And Hazardous Materials Safety Administration (PHMSA), DOT.

ACTION: Notice of actions on Special Permit Applications.

SUMMARY: In accordance with the procedures governing the application for, and the processing of, special permits from the Department of Transportation's Hazardous Material Regulations (49 CFR Part 107, Subpart B), notice is hereby given of the actions on special permits applications in (July to July 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on August 14, 2014.
Donald Burger,
Chief, Special Permits and Approvals Branch.

S.P No. | Applicant | Regulation(s) | Nature of special, permit thereof
Modification Special Permit Granted
15558-M | 3M Company, St. Paul, MN | 49 CFR 173.212, 172.301(a) and (c) | To modify the special permit to authorize the use of non-specification stainless steel portable tanks.
10869-M | Norris Cylinder Company Longview, TX | 49 CFR 173.301(a), 173.302a, 180.205(c), (f) and (g), and 180.2015 | To modify the special permit to revise the referenced drawings.
15869-M | Mercedes-Benz USA, LLC (MBUSA) Montvale, NJ | 49 CFR 172.102, Special provision A54 | To modify the the special permit to authorize additional battery types.
11911-M | Transfer Flow, Inc. Chico, CA | 49 CFR 177.834(h), and 178.700(c)(1) | To modify the special permit to authorize design flexibility in lieu of modifying the special permit for each design change.
New Special Permit Granted
16046-N | Rohm and Haas Electronic Materials, LLC, North Andover, MA | 49 CFR 173.3, 173.181, and 173.187 | To authorize the transportation in commerce of a damaged cylinder containing Division 4.3 and/or 4.2 materials in a salvage cylinder. (modes 1, 2, 3)
16109-N | CST Enterprises, LLC, dba Colibri Group, New York, NY | 49 CFR 173.304a(d)(3)(ii) | To authorize the transportation in comerce of certain non-DOT specification non-refillable inside containers similar to a DOT 2P containing certain Division 2.1 gases which are not subject to the hot water bath test and which are not fitted with a pressure relief device. (modes 1, 2, 3)
16111-N | Allen Institute for Brain Science, Seattle, WA | 49 CFR 173.24(b)(1) | To authorize the transportation in commerce of living human brain tissue continuously fed by oxidizing compressed gas. (mode 1)
16175-N | National Aeronautics and Space Administration (NASA) Washington, DC | 49 CFR 173.56, 173.302a and 173.304a | To authorize the transportation in commerce of a Division 1.4S explosive without an EX classification approval and carbon dioxide in a non-DOT specification cylinder. (modes 1, 4)
Emergency Special Permit Granted
16186-N | Veolia ES Technical Solutions, L.L.C. Flanders, NJ | 49 CFR Part 173 | To authorize the one-way transportation in commerce by motor vehicle certain hazardous materials in alternative packaging. (mode 1)
16200-N | Olympus Trading, Inc., Springfield, VA | 49 CFR 172.101, 172.204(c)(3), 173.27,; 175.30(a)(1), 175.320 | To authorize the transportation in commerce of Class 1.2 explosives, by cargo aircraft only, which is otherwise forbidden by the regulations. (mode 4)
New Special Permit Withdrawn
16149-N | Reclamation Technologies, Inc. dba, A-Gas Remtec Bowling Green, OH | 49 CFR 171.23(a)(4) and 173.304a | To authorize the transportation in commerce of certain non-DOT specification cylinders containing refrigerant gas for recovery and disposal. (modes 1, 3)
Emergency Special Permit Withdrawn
16207-N | Amerex Trussville, AL | 49 CFR 173.304a(2), 173.309(a)(3) | To authorize a maximum fill density of 68% for carbon dioxide fire extinguishers. (modes 1, 2)
13207-M | Request by Hemco Fabrication & Services Midland, TX July 16, 2014. To modify the special permit to authorize additional portable tanks for the transportation in commerce of sulfuric acid.
16116-N | Request by Commercial Body & Rigging Dallas, TX July 16, 2014. To authorize the manufacture, marking, sale, and use of non-DOT specification containers, manifolded together within a frame and securely mounted on a truck chassis, for the transportation in commerce of Class 3, Division 6.1, and Class 8 materials.

[FR Doc. 2014-20073 Filed 8-25-14; 8:45 am]

BILLING CODE 4909-60-M